DEPARTMENT OF THE INTERIOR

Fish and Wildlife Service

[FWS-R8-ES-2019-0064; FXES11140900000 190]

Endangered and Threatened Species; Receipt of an Incidental Take Permit Application and Low-Effect Habitat Conservation Plan for the Desert Tortoise; High Desert Solar Project, San Bernardino County, California; Correction

AGENCY: Fish and Wildlife Service, Interior.

ACTION: Notice of availability; request for public comments.

SUMMARY: On July 22, 2019, we, the U.S. Fish and Wildlife Service, announced via a Federal Register notice the availability for public comment of a low-effect habitat conservation plan (HCP) for the desert tortoise in San Bernardino County, California. Our Federal Register notice inadvertently did not give the correct contact name and phone number and incorrectly identified the HCP as the High Desert Power Project. The correct name is the High Desert Solar Project. In this notice, we correct those errors. We also wish to provide an additional source for the public to use to access the documents. Finally, while the original end date for the comment period was August 21, 2019, we are extending the comment period to August 26, 2019, because of the errors in our original notice.

DATES: To ensure consideration, please submit your written comments by August 26, 2019.

ADDRESSES:

Obtaining Documents: The documents this notice announces, as well as any comments and other materials that we receive, are available for public inspection online at the following websites:

• http://www.regulations.gov (in Docket No. FWS-R8-ES-2019-0064)

• https://www.fws.gov/carlsbad/HCPs/HCP_Docs.html

Submitting Comments: You may submit comments by one of the following methods:

• Online: http://www.regulations.gov. Follow the instructions for submitting comments on Docket No. FWS-R8-ES-2019-0064.

• U.S. mail or hand-delivery: Public Comments Processing, Attn: Docket No. FWS-R8-ES-2019-0064; U.S. Fish and Wildlife Service, MS: JAO/1N; 5275 Leesburg Pike, Falls Church, VA 22041-3803.

We request that you send comments by only the methods described above.

FOR FURTHER INFORMATION CONTACT: Brian Croft, Mojave Desert Division Chief, Palm Springs Fish and Wildlife Office, by phone at 760-322-2070 or via email at Brian_Croft@fws.gov. If you use a telecommunications device for the deaf, hard-of-hearing, or speech disabled, please call the Federal Relay Service at 800-877-8339.

SUPPLEMENTARY INFORMATION: On July 22, 2019, we, the U.S. Fish and Wildlife Service, announced via a Federal Register notice the availability for public comment of a low-effect habitat conservation plan (HCP) for the desert tortoise in San Bernardino County, California. Our Federal Register notice inadvertently did not give the correct contact name and phone number and incorrectly identified the HCP as the High Desert Power Project. The Correct name is the High Desert Solar Project. In this notice, we correct those errors. We also wish to provide an additional source for the public to use to access the documents.

Corrections

In our July 22, 2019, notice (84 FR 35123), we did not provide the correct contact information in FOR FURTHER INFORMATION CONTACT. Please see corrected information above.

We also wish to provide an additional website at which the public can access the documents (see ADDRESSES).

Finally, while the original end date for the comment period was August 21, 2019, we are extending the comment period to August 26, 2019, because of the errors in our original notice.

Authority

We provide this notice in accordance with the requirements of section 10(c) of the Endangered Species Act (16 U.S.C. 1531 et seq.) and its implementing regulations (50 CFR 17.22 and 17.32) and the National Environmental Policy Act (42 U.S.C. 4321 et seq.) and its implementing regulations (40 CFR 1506.6).

Dated: July 24, 2019.
Sara Prigan,
Federal Register Liaison, U.S. Fish and Wildlife Service.

[FR Doc. 2019-15993 Filed 7-26-19; 8:45 am]

BILLING CODE 4333-15-P